DEPARTMENT OF COMMERCE

International Trade Administration

A-570-825

Sebacic Acid from the People's Republic of China: Final Results of Antidumping Duty Changed Circumstances Review and Reinstatement of the Antidumping Duty Order

AGENCY: AGENCY: Import Administration, International Trade Administration, Department of Commerce.

SUMMARY: On November 26, 2004, the Department of Commerce (the Department) published the preliminary results of the changed circumstances review and intent to reinstate the Tianjin Chemicals Import and Export Corporation (Tianjin) in the antidumping duty order on exports of sebacic acid from the People's Republic of China (PRC). See Sebacic Acid From the People's Republic of China: Preliminary Results of Changed Circumstances Review and Intent to Reinstate the Antidumping Duty Order, 69 FR 68879 (November 26, 2004) (Preliminary Results). This review covers subject merchandise exported by Tianjin. The products covered by this order are all grades of sebacic acid which include, but are not limited to, CP Grade, Purified Grade, and Nylon Grade (see “Scope of the Review” section below). The period of review (POR) is July 1, 2002, through June 30, 2003. Based on our analysis of the comments received, we have made changes in the margin calculation. Therefore, the final results differ from the preliminary results. We determine that Tianjin sold subject merchandise at less than normal value (NV) during the referenced period, and hereby reinstate Tianjin in the order. The final weighted-average dumping margin is listed below in the section entitled “Final Results of Review.”

EFFECTIVE DATE: March 30, 2005.

FOR FURTHER INFORMATION CONTACT: Jennifer Moats or Brian Ledgerwood, AD/CVD Operations, Office 8, Import Administration, International Trade Administration, U.S. Department of Commerce, 14th Street and Constitution Avenue, NW., Washington, DC 20230; telephone: (202) 482-5047 or (202) 482-3836, respectively.

SUPPLEMENTARY INFORMATION:

Background

On November 26, 2004, the Department published in the Federal Register the preliminary results of changed circumstances review and intent to reinstate Tianjin in the antidumping duty order on exports of sebacic acid from the PRC. See Preliminary Results. This review covers subject merchandise exported by Tianjin. The POR is July 1, 2002, through June 30, 2003.

We invited interested parties to comment on the preliminary results of review. We received comments from Tianjin on January 3, 2005. On March 11, 2005, we put excerpts from the International Trade Commission's Staff Report on the record and invited parties to comment. The hearing was held on March 15, 2005. The Department has conducted this changed circumstances review in accordance with section 751(b) of the Tariff Act of 1930, as amended (the Act).

Scope of the Order

The products covered by this order are all grades of sebacic acid, a dicarboxylic acid with the formula (CH2)8(COOH)2, which include but are not limited to CP Grade (500 ppm maximum ash, 25 maximum APHA color), Purified Grade (1000 ppm maximum ash, 50 maximum APHA color), and Nylon Grade (500 ppm maximum ash, 70 maximum ICV color). The principle difference between the grades is the quantity of ash and color. Sebacic acid contains a minimum of 85 percent dibasic acids of which the predominant species is the C10 dibasic acid. Sebacic acid is sold generally as a free-flowing powder/flake.

Sebacic acid has numerous industrial uses, including the production of nylon 6/10 (a polymer used for paintbrush and toothbrush bristles and paper machine felts), plasticizers, esters, automotive coolants, polyamides, polyester castings and films, inks and adhesives, lubricants, and polyurethane castings and coatings.

Sebacic acid is currently classifiable under subheading 2917.13.00.30 of the Harmonized Tariff Schedule of the United States (HTSUS). Although the HTSUS subheading is provided for convenience and customs purposes, our written description of the scope of this proceeding is dispositive.

Separate Rates

We initiated this changed circumstance review for the sole purpose of determining whether Tianjin has resumed dumping of sebacic acid from the PRC. We did not require Tianjin to answer questions related to separate rates because no administrative review has been initiated that would require Tianjin to substantiate a de facto and de jure absence of government control of its export activities. We have not received any other information since the Preliminary Results which would indicate that Tianjin is not eligible for a separate rate. Therefore, we determine that Tianjin should be assigned an individual dumping margin in this changed circumstances review.

Analysis of Comments Received

All issues raised in the case brief submitted by Tianjin to this changed circumstances review are addressed in the “Issues and Decision Memorandum” (Decision Memo) from Barbara E. Tillman, Acting Deputy Assistant Secretary for Import Administration, to Joseph A. Spetrini, Acting Assistant Secretary for Import Administration, dated March 23, 2005, which is adopted by this notice. A list of the issues which parties have raised are in the Decision Memo and it is attached to this notice as an appendix. Parties can find a complete discussion of all issues raised in this review and the corresponding recommendations in this public memorandum, which is on file in the Central Records Unit, room B-099, of the main Commerce building. In addition, a complete version of the Decision Memo can be accessed directly on the Web at http://www.ia.ita.doc.gov/frn. The paper copy and electronic version of the Decision Memo are identical in content.

Changes Since the Preliminary Results

Based on our analysis of comments received, we have made certain changes in the margin calculations. These changes are discussed in the relevant sections of the Decision Memo and the Memorandum to the File from Jennifer Moats, dated March 23, 2005 (Analysis Memo). Specifically, for these final results, we have revalued sebacic acid and revalued capryl alcohol with a more recently submitted value for octanol.

Final Results of Review

We determine that the following weighted-average margin percentage exists for the period July 1, 2002, through June 30, 2003:

Manufacturer/Exporter | Margin
Tianjin Chemicals Import and Export Corporation | 26.33 percent

Since we have established that sebacic acid exported by Tianjin is being sold at less than NV, Tianjin is hereby reinstated in the antidumping duty order effective on the publication date of this notice. We will advise U.S. Customs and Border Protection (CBP) to collect a cash deposit of 26.33 percent on all entries of the subject merchandise exported by Tianjin that are entered, or withdrawn from warehouse, for consumption on or after, the publication date of these final results. This requirement shall remain in effect until publication of the final results of the next administrative review as to Tianjin. There are no changes to the rates applicable to any other companies under this antidumping duty order.

Notification to Interested Parties

The Department will disclose calculations performed in connection with the final results of review within five days of the date of publication of this notice in accordance with 19 CFR 351.224(b) of its regulations.

This notice also serves as a reminder to parties subject to administrative protective orders (APO) of their responsibility concerning the disposition of proprietary information disclosed under APO in accordance with 19 CFR 351.305(a)(3) of the Department's regulations. Timely written notification of the return/destruction of APO materials or conversion to judicial protective order is hereby requested. Failure to comply with the regulations and the terms of an APO is a sanctionable violation.

We are issuing and publishing this determination and notice in accordance with section 751(b)(1) of the Act and 19 CFR 351.216.

Dated: March 23, 2005.
Joseph A. Spetrini,
Acting Assistant Secretary for Import Administration.

Appendix - - Issues in Decision Memo

Comments

1. Authority to Reinstate the Antidumping Duty Order

2. Lack of Domestic Interested Party

3. Appearance of Cognis Corporation

4. Valuation of Sebacic Acid

5. Valuation of Activated Carbon

6. Valuation of Capryl Alcohol

7. Selection of Surrogate Financial Ratios

[FR Doc. E5-1401 Filed 3-29-05; 8:45 am]

BILLING CODE 3510-DS-S